ENVIRONMENTAL PROTECTION AGENCY

[ER-FRL-9012-5]

Environmental Impact Statements; Notice of Availability

Responsible Agency: Office of Federal Activities, General Information (202) 564-7146 or http://www.epa.gov/compliance/nepa/.

Weekly receipt of Environmental Impact Statements filed 12/02/2013 through 12/06/2013 pursuant to 40 CFR 1506.9.

Notice

Section 309(a) of the Clean Air Act requires that EPA make public its comments on EISs issued by other Federal agencies. EPA's comment letters on EISs are available at: http://www.epa.gov/compliance/nepa/eisdata.html.

EIS No. 20130356, Final EIS, FRA, MS, Tupelo Railroad Relocation Planning and Environmental Study, Review Period Ends: 01/13/2014, Contact: John Winkle 202-493-6067

EIS No. 20130357, Final EIS, FHWA, VA, Interstate 66 Corridor Tier 1 Final Environmental Impact Statement and Tier 1 Record of Decision, Contact: John Simkins 804-775-3347. Under MAP-21 section 1319, FHWA has issued a single FEIS and ROD. Therefore, the 30-day wait/review period under NEPA does not apply to this action

EIS No. 20130358, Final EIS, FHWA, VA, Interstate 64 Peninsula, from Interstate 95 in the City of Richmond to Interstate 664, Review Period Ends: 01/27/2014, Contact: John Simkins 804-775-3320

EIS No. 20130359, Final EIS, AFS, CA, Kelsey Peak Timber Sale and Fuelbreak Project, Review Period Ends: 01/27/2014, Contact: Jeff Jones 707-441-3553

EIS No. 20130360, Final EIS, USFS, AZ, Rosemont Copper Project, Proposed Mining Operation, Review Period Ends: 01/29/2014, Contact: Mindy Vogel 520-388-8300

EIS No. 20130361, Draft Supplement, USACE, MN, NorthMet Mining Project and Land Exchange, Comment Period Ends: 03/13/2014, Contact: Douglas Bruner 651-290-5378. The U.S. Army Corps of Engineers and the U.S. Department of Agriculture's Forest Service are joint lead agencies for the above project.

EIS No. 20130362, Final EIS, USFS, MT, Montana Snowbowl Expansion, Review Period Ends: 01/21/2014, Contact: Tami Paulsen 406-329-3731

EIS No. 20130363, Draft EIS, DOI, 00, PROGRAMMATIC—Deepwater Horizon Oil Spill Natural Resources Damage Assessment, Phase III Early Restoration Plan, Comment Period Ends: 02/04/2014, Contact: Nanciann Regalado 678-296-6805

EIS No. 20130364, Final EIS, USFS, OR, Tollgate Fuels Reduction, Review Period Ends: 01/13/2014, Contact: Kimpton Cooper 509-522-6009

EIS No. 20130365, Draft EIS, NMFS, CA, Bay Delta Conservation Plan, Comment Period Ends: 04/14/2014, Contact: Ryan Wulff 916-930-3733

The U.S. Department of the Interior's Bureau of Reclamation and Fish and Wildlife Service, the U.S. Department of Commerce's National Marine Fisheries Service are joint lead agencies for the above project.

EIS No. 20130366, Draft EIS, USACE, LA, PROGRAMMATIC—Southwest Coastal Louisiana Project, Comment Period Ends: 01/27/2014, Contact: Nathan Dayan 504-862-2530

Dated: December 10, 2013.
Cliff Rader,
Director, NEPA Compliance Division, Office of Federal Activities.

[FR Doc. 2013-29770 Filed 12-12-13; 8:45 am]

BILLING CODE 6560-50-P